DEPARTMENT OF THE INTERIOR

Bureau of Land Management

[LLWY9210000. L143000000.EU0000, WYW167526]

Notice of Realty Action; Notice of Segregation and Proposed Sale of Public Lands, Sweetwater County, WY

AGENCY: Bureau of Land Management, Interior.

ACTION: Notice of realty action.

SUMMARY: Two parcels of public land totaling 970 acres in Sweetwater County, Wyoming, are being proposed for sale.

DATES: In order to ensure consideration in the environmental analysis for the proposed sale, comments must be received by June 7, 2012.

ADDRESSES: Address all comments concerning this notice to Lance Porter, Bureau of Land Management (BLM), Rock Springs Field Office, 280 Highway 191 North, Rock Springs, WY 82901-3447.

FOR FURTHER INFORMATION CONTACT: Patricia Hamilton, Realty Specialist, at the above address, phone 307-352-0334, or email phamilto@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following public lands are being proposed for sale at no less than the appraised fair market value under the authority of Section 203 of the Federal Land Policy and Management Act (FLPMA) of 1976, (90 Stat. 2750, 43 U.S.C. 1713):

Sixth Principle Meridian

T. 18 N., R. 108 W.,

Sec. 10, W½W½NW¼NE¼, S½NE¼, NW¼, W½SW¼, N½NE¼SW¼, and N½N½SE¼;

Sec. 12, W½NW¼NE¼, S½NE¼, W½, and SE¼.

The areas described aggregate 970 acres in Sweetwater County according to the official plats of the surveys of the said lands on file with the BLM.

The 1997 BLM Green River Resource Management Plan identifies these parcels of public land as suitable for disposal. Conveyance of the identified public lands will be subject to valid existing rights and encumbrances of record, including, but not limited to, rights-of-way for roads and public utilities. Conveyance of any mineral interest pursuant to Section 209 of the FLPMA will be analyzed during processing of the proposed sale.

On April 23, 2012, the above-described lands will be segregated from all forms of appropriation under the public land laws, including the mining laws, except the sale provisions of FLPMA. Until completion of the sale, the BLM is no longer accepting land use applications affecting the identified public land, with the exception of applications for the amendment of previously filed right-of-way applications or existing authorizations to increase the term of the grants in accordance with 43 CFR 2807.15 and 2886.15. The segregative effect will terminate upon the issuance of a patent, publication in the Federal Register of a termination of the segregation, or April 23, 2014, unless extended by the BLM State Director in accordance with 43 CFR 2711.1-2(d) prior to the termination date.

Public Comments: Until June 7, 2012, interested parties and the general public may submit in writing any comments concerning the lands being considered for sale, including notification of any encumbrances or other claims relating to the identified land, to Lance Porter at the above address. Comments transmitted via email will not be accepted. Comments, including names and street addresses of respondents, will be available for public review at the BLM Rock Springs Field Office during regular business hours, except holidays.

Before including your address, phone number, email address, or other personal identifying information in your comment, be advised that your entire comment—including your personal identifying information—may be made publicly available at any time. While you can ask us in your comment to withhold from public review your personal identifying information, we cannot guarantee that we will be able to do so.

(Authority: 43 CFR 2711.1-2)

Larry Claypool,
Deputy State Director.

[FR Doc. 2012-9684 Filed 4-20-12; 8:45 am]

BILLING CODE 4310-22-P